DEPARTMENT OF THE INTERIOR

Bureau of Land Management

[F-21901-01, F-21901-02, F-21901-04, F-21901-05, F-21901-24, F-21901-25, F-21904-41, F-21904-49, F-21904-64, F-21904-69, F-21904-71, F-21904-85, F-21904-86, F-21905-19, F-21905-20, F-21905-21, F-21905-25, F-21905-26, F-21905-27, F-21905-33, F-21905-36, F-21905-63, F-21905-64, F-21905-75, F-21905-84, F-21905-85; AK-964-1410-KC-P]

Alaska Native Claims Selection

AGENCY: Bureau of Land Management, Interior.

ACTION: Notice of decision approving lands for conveyance.

SUMMARY: As required by 43 CFR 2650.7(d), notice is hereby given that an appealable decision approving the surface and subsurface estates in certain lands for conveyance pursuant to the Alaska Native Claims Settlement Act will be issued to Doyon, Limited. The lands are in the vicinity of Chicken, Alaska, and are located in:

Fairbanks Meridian, Alaska

T. 1 N., R. 26 E.,

Secs. 1 to 24, inclusive;

Containing approximately 15,326 acres.

T. 2 N., R. 26 E.,

Secs. 4 and 9;

Secs. 16, 17, and 18.

Containing approximately 2,402 acres.

T. 1 N., R. 27 E.,

Secs. 1 to 24, inclusive;

Containing approximately 15,328 acres.

T. 2 N., R. 27 E.,

Secs. 1 to 18, inclusive;

Secs. 21 to 28, inclusive;

Secs. 33 to 36, inclusive.

Containing approximately 19,134 acres.

T. 1 N., R. 28 E.,

Secs. 1 to 26, inclusive;

Secs. 35 and 36.

Containing approximately 17,888 acres.

T. 2 N., R. 28 E.,

Secs. 7 to 10, inclusive;

Secs. 13 to 36, inclusive.

Containing approximately 17,832 acres.

T. 1 N., R. 29 E.,

Secs. 1 to 36, inclusive;

Containing approximately 22,964 acres.

T. 2 N., R. 29 E.,

Secs. 19 and 20;

Secs. 27 to 36, inclusive.

Containing approximately 7,634 acres.

T. 1 S., R. 29 E.,

Secs. 1 to 18, inclusive;

Containing approximately 11,383 acres.

T. 4 S., R. 29 E.,

Secs. 13 to 17, inclusive;

Secs. 23 and 24.

Containing approximately 4,480 acres.

T. 5 S., R. 29 E.,

Secs. 1 to 28, inclusive;

Secs. 33 to 36, inclusive.

Containing approximately 19,944 acres.

T. 4 S., R. 30 E.,

Secs. 3 to 10, inclusive;

Secs. 14 to 23, inclusive;

Secs. 26 and 27.

Containing approximately 12,768 acres.

T. 5 S., R. 30 E.,

Secs. 7, 18 and 19;

Secs. 25 to 36, inclusive.

Containing approximately 9,395 acres.

T. 4 S., R. 31 E.,

Secs. 1 to 5, inclusive;

Secs. 9 to 16, inclusive;

Secs. 21 to 28, inclusive;

Secs. 33 to 36, inclusive.

Containing approximately 16,000 acres.

T. 5 S., R. 31 E.,

Secs. 1, 2, and 3;

Secs. 10 to 17, inclusive;

Secs. 20 to 36, inclusive.

Containing approximately 17,804 acres.

T. 6 S., R. 31 E.,

Secs. 1 to 36, inclusive.

Containing approximately 22,860 acres.

T. 4 S., R. 32 E.,

Secs. 19, 20, and 21;

Secs. 28 to 33, inclusive.

Containing approximately 5,751 acres.

T. 5 S., R. 32 E.,

Secs. 1 to 35, inclusive.

Containing approximately 21,688 acres.

T. 6 S., R. 32 E.,

Secs. 3 to 9, inclusive

Secs. 17 to 20, inclusive;

Secs. 29 to 33, inclusive;

Containing approximately 9,550 acres.

T. 7 S., R. 32 E.,

Sec. 6;

Secs. 31, 32, and 33.

Containing approximately 2,524 acres.

T. 4 S., R. 33 E.,

Secs. 19 to 36, inclusive.

Containing approximately 11,870 acres.

T. 5 S., R. 33 E.,

Secs. 4 to 9, inclusive;

Secs. 16 to 20, inclusive.

Sec. 30.

Containing approximately 6,627 acres.

Aggregating approximately 291,153 acres.

Notice of the decision will also be published four times in the Fairbanks Daily News-Miner.

DATES: The time limits for filing an appeal are:

1. Any party claiming a property interest which is adversely affected by the decision shall have until April 15, 2009 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Jason Robinson,
Land Law Examiner, Land Transfer Adjudication I.

[FR Doc. E9-5576 Filed 3-13-09; 8:45 am]

BILLING CODE 4310-JA-P